DEPARTMENT OF ENERGY

Federal Energy Regulatory Commission,

[FERC Docket Nos. CP01-22-000 and CP01-23-000; CA Clearinghouse No. 2001011020; BLM Reference No. CACA-42662]

North Baja Pipeline, LLC; Notice of Availability/Completion of the Draft Environmental Impact Statement/Report and Draft Land Use Plan Amendment for the Proposed North Baja Pipeline Project

July 20, 2001.

The staffs of the Federal Energy Regulatory Commission (FERC or Commission), the California State Lands Commission (CSLC), and the Bureau of Land Management (BLM) have prepared this draft environmental impact statement/report (EIS/EIR) and draft land use plan amendment (plan amendment) to address natural gas pipeline facilities proposed by North Baja Pipeline, LLC (NBP).

The draft EIS/EIR and draft plan amendment was prepared as required by the National Environmental Policy Act (NEPA), the California Environmental Quality Act, and the Federal Land Management and Policy Act. Its purpose is to inform the public and the permitting agencies about the potential adverse and beneficial environmental impacts of the proposed project and its alternatives, and recommend mitigation measures that would reduce any significant adverse impacts to the maximum extent possible and, where feasible, to a less than significant level. The FERC, the CSLC, and the BLM staffs conclude that approval of the proposed project, with appropriate mitigating measures as recommended, would have limited adverse environmental impact.

The BLM is participating as a cooperating agency in the preparation of this document because the project would cross Federal land under the jurisdiction of the Palm Springs, El Centro, and Yuma Field Offices. The Bureau of Reclamation (BOR) is also a cooperating agency in the preparation of this document because lands administered by the BOR would be crossed by the project. This draft EIS/EIR and draft plan amendment will be used by the BLM to consider issuance of a right-of-way grant for the portion of the project on lands managed by the BLM and the BOR. This draft EIS/EIR and draft plan amendment will also be used by the BLM to consider amending the California Desert Conservation Area (CDCA) Plan (as amended), which would be necessary for pipeline construction outside of designated utility corridors, as well as amending the Yuma District Resource Management Plan (Yuma District Plan), which would be necessary for pipeline construction across the Milpitas Wash Special Management Area. The BLM proposes to adopt this draft EIS/EIR and draft plan amendment per Title 40 Code of Federal Regulations (CFR) Part 1506.3 to meet its responsibilities under NEPA and its planning regulations per Title 43 CFR Part 1610. The BLM Arizona and California State Directors have approved the draft plan amendments for their respective planning areas. The BLM will present its Record of Decision for the North Baja Pipeline Project after the issuance of the final EIS/EIR and proposed plan amendment.

The draft EIS/EIR and draft plan amendment addresses the potential environmental effects of the construction and operation of the following facilities in Arizona and California:

• About 79.9 miles of 36-inch-diameter (11.8 miles) and 30-inch-diameter (68.1 miles) natural gas pipeline (North Baja pipeline) extending from an interconnection with El Paso Natural Gas Company (El Paso) in La Paz County, Arizona, through Riverside and Imperial Counties, California, to an interconnection at the international border between the United States and Mexico;

• A new compressor station (Ehrenberg Compressor Station) consisting of three gas-fired centrifugal compressor units for a total horsepower ranging from 18,810 to 21,600 (with one additional spare unit) at the El Paso interconnect in La Paz County, Arizona;

• Two meter stations, one at the interconnect with El Paso at the Ehrenberg Compressor Station site (Ehrenberg Meter Station) and one in Imperial County, California near the interconnect at the international border (Ogilby Meter Station);

• A pig launcher facility at the Ehrenberg Compressor Station site; a pig receiver facility at the Ogilby Meter Station site; and a separate pig launcher/receiver facility (Rannells Trap) in Riverside County, California; and

• Seven mainline valves, one each at the Ehrenberg Compressor Station site, Rannells Trap, and Ogilby Meter Station site, and another four spaced as required along the proposed pipeline route.

Comment Procedures and Public Meetings

Any person wishing to comment on the draft EIS/EIR and draft plan amendment may do so. Please carefully follow these instructions to ensure that your comments are received in time and are properly recorded:

• Send an original and two copies of your letter to: David P. Boergers, Secretary; Federal Energy Regulatory Commission; 888 First St., N.E., Room 1A; Washington, DC 20426

Note: The FERC will provide copies to the BLM for review. The BLM will prepare any appropriate responses relative to the plan amendments.

• Reference Docket No. CP01-22-000;

• Label one copy of your comments for the attention of the Gas Group 1;

• Send an additional copy of your letter to the following individual:

Goodyear K. Walker,

California State Lands Commission, 100 Howe Ave., Suite 100 South Sacramento, CA 95825

• Mail your comments so that they will be received in Washington, DC on or before October 25, 2001.

Comments, protests and interventions may also be filed electronically via the Internet in lieu of paper. See 18 CFR 385.2001(a)(1)(iii) and the instructions on the FERC's website under the “e-Filing” link.

In addition to written comments, the FERC, the CSLC, and the BLM will hold public meetings in the project area to receive comments on the draft EIS/EIR and draft plan amendment. All meetings will begin at 7 p.m., and are scheduled as follows:

Dates and Locations

August 22, 2001

Blythe City Council Chamber, 235 North Broadway, Blythe, California 92225, (760) 922-6161

August 23, 2001

Vacation Inn, 2000 Cottonwood Circle, El Centro, California 92243, (760) 352-9523

Interested groups and individuals are encouraged to attend and present oral comments on the draft EIS/EIR and draft plan amendment. Transcripts of the meetings will be prepared.

After these comments are reviewed, any significant new issues are investigated, and necessary modifications are made to the draft EIS/EIR and draft plan amendment, a final EIS/EIR and proposed plan amendment will be published and distributed. The final EIS/EIR and proposed plan amendment will contain the FERC, the CSLC, and the BLM staffs' responses to timely comments received on the draft EIS/EIR and draft plan amendment.

Comments will be considered by the FERC, the CSLC, and the BLM but will not serve to make the commenter a party to the proceeding. Any person seeking to become a party to the proceeding must file a motion to intervene pursuant to Rule 214 of the Commission's Rules of Practice and Procedure (Title 18 Code of Federal Regulations, Part 385.214). Anyone may intervene in this proceeding based on this draft EIS/EIR. You must file your request to intervene as specified above. You do not need intervenor status to have your comments considered.

Federal, state, and local agencies; elected officials; Native American groups; newspapers; public libraries; intervenors to the FERC's proceeding; and other interested parties who provided scoping comments, comments on the draft EIS/EIR and draft plan amendment, or who previously asked to remain on the mailing list will receive a copy of the final EIS/EIR and proposed plan amendment. If you are not described by one of these categories but wish to receive a copy of the final EIS/EIR and proposed plan amendment, you must write to the Secretary of the FERC indicating this request. Individuals who do not indicate their desire to receive the final EIS/EIR and proposed plan amendment will only receive a Notice of Availability/Notice of Completion of the final EIS/EIR and proposed plan amendment.

The draft EIS/EIR and draft plan amendment has been placed in the public files of the FERC and the CSLC and is available for public inspection at:

Federal Regulatory Energy Commission, Public Reference and Files Maintenance Branch, 888 First Street, N.E., Room 2A, Washington, DC 20426, (202) 208-1371 and California State Lands Commission, 100 Howe Avenue, Suite 100 South, Sacramento, CA 95825-8202, (916) 574-1889

A limited number of copies of the draft EIS/EIR and draft plan amendment are available from the FERC's Public Reference and Files Maintenance Branch identified above. Copies may also be obtained from Goodyear K. Walker, CSLC, at the address above. The draft EIS/EIR and draft plan amendment is also available for viewing on the FERC, CSLC, and BLM websites at the Internet addresses below.

Additional information about the proposed project is available from Goodyear K. Walker at the CSLC at (916) 574-1893, or on the CSLC website at http://www.slc.ca.gov, or from the FERC's Office of External Affairs at (202) 208-1088, or on the FERC website at http://www.ferc.gov using the “RIMS” link, select “Docket#” and follow the instructions (call (202) 208-2222 for assistance). Access to the texts of formal documents issued by the Commission with regard to these dockets, such as orders and notices, is also available on the FERC website using the “CIPS” link. For assistance with access to CIPS, the CIPS helpline can be reached at (202) 208-2474.

Information concerning the proposed CDCA and Yuma District Plan amendments and the involvement of the BLM in the EIS/EIR and plan amendment process is available from Lynda Kastoll, BLM Project Manager, at (760) 337-4421, or on the BLM website at http://www.ca.blm.gov/elcentro/northbaja.

David Boergers,
Secretary, Federal Energy Regulatory Commission.

[FR Doc. 01-18614 Filed 7-25-01; 8:45 am]

BILLING CODE 6717-01-P